DEPARTMENT OF EDUCATION

2 CFR Part 3474

[Docket ID ED-2015-OS-0105]

RIN 1894-AA07

Open Licensing Requirement for Direct Grant Programs

AGENCY: Office of the Secretary, Department of Education.

ACTION: Notice of proposed rulemaking; extension of comment period.

SUMMARY: On November 3, 2015, we published in the Federal Register a notice of proposed rulemaking (NPRM) to amend the Uniform Administrative Requirements, Cost Principles, and Audit Requirements for Federal Awards in order to require that all Department grantees awarded direct competitive grant funds openly license to the public all copyrightable intellectual property created with Department grant funds. That NPRM established a 30-day comment period beginning on November 3, 2015, and closing on December 3, 2015. We are extending the public comment period for 15 days, until December 18, 2015.

DATES: The comment period for the notice of proposed rulemaking that published on November 3, 2015 (80 FR 67672), is extended. We must receive your comments on or before December 18, 2015.

ADDRESSES: Submit your comments through the Federal eRulemaking Portal or via U.S. mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• U.S. Mail, Commercial Delivery, or Hand Delivery: If you mail or deliver your comments about the proposed regulations, address them to Sharon Leu, U.S. Department of Education, 400 Maryland Avenue SW., room 6W252, Washington, DC 20202-5900.

Privacy Note: The Department's policy is to make all comments received from members of the public available for public viewing in their entirety on the Federal eRulemaking Portal at www.regulations.gov. Therefore, commenters should be careful to include in their comments only information that they wish to make publicly available.

FOR FURTHER INFORMATION CONTACT: Sharon Leu, U.S. Department of Education, 400 Maryland Avenue SW., room 6W252, Washington, DC 20202-5900. Telephone: 202-453-5646 or email: tech@ed.gov.

If you use a telecommunications device for the deaf or a text telephone, call the Federal Relay Service, toll free, at 1-800-877-8339.

SUPPLEMENTARY INFORMATION: Background: On November 3, 2015, we published an NPRM in the Federal Register (80 FR 67672), to amend the Uniform Administrative Requirements, Cost Principles, and Audit Requirements for Federal Awards in order to require that all Department grantees awarded direct competitive grant funds openly license to the public all copyrightable intellectual property created with Department grant funds. The NPRM established a 30-day comment period, closing on December 3, 2015. To ensure that all interested parties are provided ample time and opportunity to submit comments, we are extending the public comment period for an additional 15 days. Written comments must be submitted to us no later than December 18, 2015.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: November 23, 2015.
Arne Duncan,
Secretary of Education.

[FR Doc. 2015-30279 Filed 11-24-15; 11:15 am]

BILLING CODE 4000-01-P